DEPARTMENT OF ENERGY

Federal Energy Regulatory Commission

[Project No. 2157-188]

Public Utility District No. 1 of Snohomish County, WA; Notice of Availability of Draft Environmental Assessment

May 4, 2010.

In accordance with the National Environmental Policy Act of 1969 and the Federal Energy Regulatory Commission's (Commission or FERC's) regulations, 18 Code of Federal Regulations (CFR) part 380 (Order No. 486, 52 Federal Register [FR] 47897), the Office of Energy Projects has reviewed Public Utility District No. 1 of Snohomish County's application for license for the Henry M. Jackson Hydroelectric Project (FERC Project No. 2157-188), located on the Sultan River 20 miles east of the city of Everett, Snohomish County. The project currently underlies a total of 10.9 acres of federal lands in the Mount Baker-Snoqualmie National Forest administered by the U.S. Department of Agriculture, Forest Service.

Staff prepared a draft environmental assessment (EA), which analyzes the potential environmental effects of relicensing the project, and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support.

Any comments should be filed within 45 days from the date of this notice and should be addressed to: Kimberly D. Bose, Secretary, Federal Energy Regulatory Commission, 888 First Street, NE., Washington, DC 20426. Please affix Project No. 2157 to all comments. Comments may be filed electronically via the Internet in lieu of paper. The Commission strongly encourages electronic filings. See 18 CFR 385.2001(a)(1)(iii) and the instructions on the Commission's Web site (http://www.ferc.gov) under the “e-Filing” link.

For further information, contact David Turner by telephone at 202-502-6091 or by e-mail at David.Turner@ferc.gov.

Kimberly D. Bose,
Secretary.

[FR Doc. 2010-11102 Filed 5-10-10; 8:45 am]

BILLING CODE 6717-01-P